DEPARTMENT OF TRANSPORTATION

Federal Aviation Administration

Agency Information Collection Activities: Requests for Comments; Clearance of Renewed Approval of Information Collection: Certification of Airports

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 9, 2015. 14 CFR part 139 establishes certification requirements for airports serving scheduled air carrier operations in aircraft with 10-30 seats. These requirements result in information collections from respondents.

DATES: Written comments should be submitted by July 22, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0675

Title: Certification of Airports.

Form Numbers: FAA Form 5280-1.

Type of Review: Renewal of an information collection.

Background: The Federal Register Notice with a 60-day comment period soliciting comments on the following collection of information was published on April 9, 2015 (80 FR 19108). Title 49, United States Code (U.S.C.) 44706, Airport operation certificates, authorizes the FAA to issue airport operating certificates to airports serving certain air carriers, and to establish minimum safety standards for the operation of those airports. Information collection requirements are used by the FAA to determine an airport operator's compliance with safety and operational requirements found in 14 CFR part 139, and to assist airport personnel to perform duties required under the regulation.

Respondents: Approximately 539 airports.

Frequency: Information is collected on occasion.

Estimated Average Burden per Response: 22 hours.

Estimated Total Annual Burden: 96,801 hours.

Issued in Washington, DC, on June 16, 2015.
Ronda Thompson,
FAA Information Collection Clearance Officer, IT Enterprises Business Services Division, ASP-110.

[FR Doc. 2015-15265 Filed 6-19-15; 8:45 am]

BILLING CODE 4910-13-P